DEPARTMENT OF HEALTH AND HUMAN SERVICES

Food and Drug Administration

[Docket No. FDA-2011-D-0530]

Mobile Medical Applications Draft Guidance; Public Workshop; Correction

AGENCY: Food and Drug Administration, HHS.

ACTION: Notice; correction.

SUMMARY: The Food and Drug Administration (FDA) is correcting a notice that appeared in the Federal Register of Friday, August 12, 2011 (76 FR 50231). The document announced a public workshop entitled “Mobile Medical Applications Draft Guidance.” The document was published with an outdated address in the section entitled “Will there be transcripts of the meeting?” This document corrects that error.

FOR FURTHER INFORMATION CONTACT: Joyce Strong, Office of Policy, Food and Drug Administration, 10903 New Hampshire Ave., Bldg. 32, Rm. 3208, Silver Spring, MD 20993-0002, 301-796-9148.

SUPPLEMENTARY INFORMATION: In FR Doc. 2011-20574, appearing on page 50231 in the Federal Register of Friday, August 12, 2011, the following correction is made:

1. On page 50233, in the second column, under the section entitled “Will there be transcripts of the meeting?” the address for the Division of Freedom of Information is corrected to read “Division of Freedom of Information (ELEM-1029), Food and Drug Administration, 12420 Parklawn Dr., Element Bldg., Rockville, MD 20857.”

Dated: August 31, 2011.
Nancy K. Stade,
Deputy Director for Policy, Center for Devices and Radiological Health.

[FR Doc. 2011-22674 Filed 9-2-11; 8:45 am]

BILLING CODE 4160-01-P